DEPARTMENT OF ENERGY

[Docket Nos. EA-279, PP-16-1 and PP-40-1]

Applications To Transfer Electricity Export Authorizations and Presidential Permits; Citizens Communications Company and UniSource Energy Company

AGENCY: Office of Fossil Energy, DOE.

ACTION: Notice of application.

SUMMARY: Citizens Communications Company (Citizens) and UniSource Energy Company (UniSource) have jointly applied to transfer Electricity Export Authorizations EA-16 and EA-40 and Presidential Permits PP-16 and PP-40 from Citizens to a new corporate entity affiliated with UniSource and currently designated as “NewCo.”

DATES: Comments, protests or requests to intervene must be submitted on or before June 6, 2003.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16 U.S.C. 824a(e)). In addition, the construction, operation, maintenance, and connection of facilities at the international border of the United States for the transmission of electric energy between the United States and a foreign country is prohibited in the absence of a Presidential permit issued pursuant to Executive Order (EO) 10485, as amended by EO 12038. Existing electricity export authorizations and Presidential permits are not transferable or assignable. However, in the event of a proposed voluntary transfer of export authority or physical facilities, in accordance with the regulations at 10 CFR 205.305 and 10 CFR 205.323, the existing holder of an export authorization or permit and the transferee(s) are required to file joint applications for transfer with DOE that include a statement of reasons for the transfer.

On August 8, 1952, the Federal Power Commission (FPC; the predecessor agency of DOE) issued a Presidential permit in Docket E-6432 (DOE Presidential Permit PP-16) to Citizens Utilities Company (now Citizens Communications Company) for one 2,300-volt (2.3-kV) electric distribution line that crossed the United States border with Mexico in the vicinity of Sondita Avenue, Nogales, Arizona, and one 13-kV distribution line that originated at the Grand Avenue Plant and crossed the United States border with Mexico 1700 feet east of the 2.3-kV facilities.

On December 29, 1967, the FPC granted a Presidential permit in Docket E-7371 (DOE Presidential Permit PP-40) to Citizens Utilities Company for a 13.8-kV distribution line crossing the United States border with Mexico in the vicinity of Boundary Monument No. 112 in Lochiel, Arizona.

On December 29, 1967, in Docket E-7370, and on February 2, 1970, in Docket E-6431, (DOE Docket Nos. EA-40 and EA-16, respectively) the FPC authorized Citizens Utilities to export electric energy to Mexico using the above cross-border facilities.

On April 18, 2003, Citizens and UniSource (collectively, the “Applicants”) jointly filed applications with DOE to transfer Presidential Permits PP-16 and PP-40, as well as electricity export authorizations EA-16 and EA-40, from Citizens to a new corporate subsidiary of UniSource and currently designated as “NewCo.” As a result of an asset purchase agreement executed on October 29, 2002, Citizens agreed to sell to UniSource all assets (as further described in the applications) used by Citizens in connection with or otherwise necessary for the conduct of Citizens' electric utility business in Arizona. The sale of Citizens electric utility business to NewCo is currently pending before the Federal Energy Regulatory Commission (FERC; Docket No. EC03-54-000). UniSource owns 99.9% of the issued and outstanding common stock of Tucson Electric Power Company and all of the issued and outstanding common stock of two direct non-utility subsidiaries, Millennium Energy Holdings, Inc. and UniSource Energy Development Company.

In the instant applications, the Applicants request that the existing energy limits of 60,000,000 kilowatt-hours (kWh) per year using the PP-16 facilities, and 5,000,000 kWh per year using the PP-40 facilities be removed. The Applicants further note that the 2.3-kV facilities currently authorized in Presidential Permit PP-16 were removed in the mid-1970's and that the 13-kV line is currently maintained only for contingencies and does not serve any load. The Applicants state that there will be no physical changes to either of the existing permitted facilities.

Procedural Matters

Any person desiring to become a party to this proceeding or to be heard by filing comments or protests to this application should file a petition to intervene, comment or protest at the address provided above in accordance with §§ 385.211 or 385.214 of the FERC's rules of practice and procedures (18 CFR 385.211, 385.214). Fifteen copies of each petition and protest should be filed with the DOE on or before the date listed above.

Comments on the joint applications to transfer Presidential permits and electricity export authorizations from Citizens to NewCo should be clearly marked with Dockets EA-279, PP-16-1, or PP-40-1, as appropriate. Additional copies are to be filed directly with L. Russell Mitten, Esq., VP, General Counsel, Citizens Communications Company, 3 High Ridge Park, Stamford, CT 06905; Vincent Nitido, Jr., Esq., VP, General Counsel, UniSource Energy Corporation, One South Church Ave., Suite 100, Tucson, AZ 85701; and Bonnie A. Suchman, Esq., Amie V. Colby, Esq., Troutman Sanders LLP, 401 9th Street, NW., Suite 1000, Washington, DC 20004.

Before an electricity export authorization or Presidential permit may be issued or amended, the DOE must determine that the proposed action will not adversely impact on the reliability of the U.S. electric power supply system. In addition, DOE must consider the environmental impacts of the proposed action (i.e., granting the Presidential permit or electricity export authorization, with any conditions and limitations, or denying them) pursuant to the National Environmental Policy Act of 1969. DOE also must obtain the concurrence of the Secretary of State and the Secretary of Defense before taking final action on a Presidential permit application.

Copies of these applications will be made available, upon request, for public inspection and copying at the address provided above or by accessing the Fossil Energy Home Page at http://www.fe.doe.gov. Upon reaching the Fossil Energy Home page, select “Electricity Regulation,” and then “Pending Proceedings” from the options menus.

Issued in Washington, DC, on May 1, 2003.
Anthony J. Como,
Deputy Director, Electric Power Regulation, Office of Coal & Power Import/Export, Office of Coal & Power Systems, Office of Fossil Energy.

[FR Doc. 03-11313 Filed 5-6-03; 8:45 am]

BILLING CODE 6450-01-P